DEPARTMENT OF COMMERCE

National Oceanic and Atmospheric Administration

50 CFR Part 622

[I.D. 110900C]

Fisheries of the Caribbean, Gulf of Mexico, and South Atlantic; Reef Fish Fishery of the Gulf of Mexico; Red Grouper; Overfished Fishery

AGENCY: National Marine Fisheries Service (NMFS), National Oceanic and Atmospheric Administration (NOAA), Commerce.

ACTION: Determination of overfished fishery.

SUMMARY: NMFS has determined that the Gulf of Mexico red grouper fishery is overfished and has notified the Gulf of Mexico Fishery Management Council (Council) of related responsibilities under the Magnuson-Stevens Fishery Conservation and Management Act (Magnuson-Stevens Act).

DATES: Effective November 24, 2000.

FOR FURTHER INFORMATION CONTACT: Phil Steele, telephone 727-570-5305, fax 727-570-5583, e-mail Phil.Steele@noaa.gov.

SUPPLEMENTARY INFORMATION: The Gulf of Mexico reef fish fishery is managed under the Fishery Management Plan for the Reef Fish Resources of the Gulf of Mexico (FMP). The FMP was prepared by the Council and approved and implemented by NMFS under the authority of the Magnuson-Stevens Fishery Conservation and Management Act. The FMP is implemented by regulations at 50 CFR part 622.

Determination of Overfished Fishery

NMFS’ determination of the status of a stock relative to overfishing and an overfished condition is based on both the removal of fish from the stock through fishing (the exploitation rate) and the current stock size. When the exploitation rate jeopardizes the capacity of a stock to produce its maximum sustainable yield (MSY) on a continuing basis, overfishing is occurring. The exploitation rate (i.e., rate of removal of fish from a population by fishing) is usually expressed in terms of an instantaneous fishing mortality rate (F).

Another important factor for classifying the status of a resource is the current stock level. If a stock's biomass falls below its minimum stock size threshold, the capacity of the stock to produce MSY on a continuing basis is jeopardized and the stock is said to be in an overfished condition.

Commercial red grouper landings in the Gulf of Mexico are down approximately 55 percent from the high that the U.S. fishery reached in 1982. Recreational landings in 1997 were the lowest since 1981. At one of its meetings in 1999, the Council’s Reef Fish Stock Assessment Panel (RFSAP) reviewed the 1999 scientific assessment of the red grouper stock conducted by the NMFS Southeast Fisheries Science Center (SEFSC). The RFSAP concurred with the assessment’s findings that the stock is overfished and is undergoing overfishing. Subsequent SEFSC analyses of the stock confirm that it is overfished and undergoing overfishing as discussed below.

The stock assessment conducted by the RFSAP used two different scientific models (a surplus-production model and the Age Structured Assessment Program (ASAP)) to evaluate the current condition of the red grouper stock. Both models indicated that the red grouper stock is overfished and that overfishing is occurring. The surplus production model results showed that in 1997 the red grouper biomass was approximately 20 percent of the biomass expected at MSY, and that F in 1997 was approximately two times that needed to produce MSY. Absolute estimates of MSY were approximately 11 to 12 million lb (5.0 to 5.5 million kg). The ASAP model showed that the best estimate for MSY was 8.4 million lb (3.8 million kg), which is achieved at an F of 0.27 per year. The spawning stock biomass at MSY was estimated to be 563 million lb (255 million kg). The estimated F and spawning stock biomass in 1997 was 0.88 per year and 144 million lb (65 million kg), respectively. Thus, the 1997 estimated stock biomass was 26 percent of its estimated biomass at MSY.

Both models showed an increase in F in recent years. With decreased catch, this implies a reduced abundance of red grouper. Estimated F has doubled since the late 1970's and has increased from an average of 0.3 in 1986 to 0.5 in 1997. Estimates of spawning stock biomass and recruitment have declined since at least 1985. In all model simulations, the red grouper stock is overfished, and overfishing is still occurring.

At the RFSAP’s August 2000 meeting, four additional sensitivity analyses of red grouper stock status were requested. The results of these analyses, conducted by the SEFSC, again confirmed the overfished status of the Gulf of Mexico red grouper stock.

Section 304(e) of the Magnuson-Stevens Fishery Conservation and Management Act requires that within 1 year of being notified of the identification of a stock as being overfished, the affected Regional Fishery Management Council must develop measures to end overfishing and rebuild the stock. On October 13, 2000, the Acting Regional Administrator, NMFS Southeast Region, notified the Council of the overfished status of the Gulf of Mexico red grouper and requested that the Council take appropriate action. The letter to the Council reads as follows:

October 13, 2000

Ms. Kay Williams, Chairperson

Gulf of Mexico Fishery Management Council

3018 U.S. Highway 301, Suite 1000

Tampa, Florida 33619

Dear Kay,

This is to inform the Council that, based upon the best available scientific information, the National Marine Fisheries Service (NMFS) has determined that the Gulf of Mexico red grouper stock is overfished and undergoing overfishing. This determination is based on the 1999 red grouper stock assessment and subsequent analyses by the Southeast Fisheries Science Center completed at the request of the Reef Fish Stock Assessment Panel (enclosed). These most recent analyses indicate that the stock is overfished and undergoing overfishing. I do not anticipate that any additional re-analysis of these data will alter this determination. Furthermore, the recent peer review of the 1999 red grouper assessment by the Center for Independent Experts concluded that the assessment contained sufficient information upon which to base management decisions. The conclusions of this peer review have already been provided to the Council and the Reef Fish Stock Assessment Panel (RFSAP).

The reference points for overfishing and overfished currently in the Fishery Management Plan for the Reef Fish Resources of the Gulf of Mexico are based only on fishing mortality rates expressed as spawning potential ratios (overfishing: 30% static SPR; overfished: 20% transitional SPR). These reference points are not fully compliant with the national standard guidelines because they do not include a component based on stock size and, thus, are not an adequate basis for determination of stock status. The national guidelines require specification of a minimum stock size threshold (MSST) and a maximum fishing mortality threshold (MFMT). Each of the assessment scenarios provided to the Council includes estimates of these status determination criteria as well as an estimate of MSY.

The Magnuson-Stevens Fishery Conservation and Management Act requires that the Council propose management measures to initiate rebuilding of the stock within one year of the determination that the stock is overfished. The 1999 stock assessment as well as the enclosed analyses provide the Council and the RFSAP with a range of assessment scenarios, including those recommended by industry consultants. The RFSAP will meet again in December to provide the Council with further guidance regarding the extent of reduction in fishing mortality required to end overfishing and rebuild the stock. The extent of the required reduction is dependent on the assessment scenario selected and the duration of the rebuilding period. As the Council addresses overfishing and rebuilding of the red grouper stock, the Council must develop a plan to rebuild the stock to the biomass at MSY and must select specific estimates of MSY, OY, MFMT, and MSST as part of this plan. The information necessary to complete this task is included in the 1999 assessment and the enclosed material requested by the RFSAP.

I look forward to working with the Council to develop a plan for rebuilding the red grouper stock.

Sincerely Yours,

Joseph E. Powers, PhD.

Acting Regional Administrator

Dated: November 16, 2000.
William T. Hogarth,
Deputy Assistant Administrator for Fisheries, National Marine Fisheries Service.

[FR Doc. 00-30029 Filed 11-22-00; 8:45 am]

BILLING CODE: 3510-22-S